DEPARTMENT OF HEALTH AND HUMAN SERVICES

Health Resources and Services Administration

Advisory Commission on Childhood Vaccines; Notice of Meeting

In accordance with section 10(a)(2) of the Federal Advisory Committee Act (Public Law 92-463), announcement is made of the following National Advisory body scheduled to meet during the month of September.

Name: Advisory Commission on Childhood Vaccines (ACCV).

Date and Time: September 4, 2002; 9:00 a.m.-12:30 p.m.

Place: Audio Conference Call.

The full ACCV will meet via audio conference call on Wednesday, September 4, from 9:00 a.m. to 12:30 p.m. The public can join the meeting by dialing 1-888-968-3511 on September 4 and provide the following information:

Leader's Name: Thomas E. Balbier, Jr.

Password: ACCV.

The agenda items for September 4 will include, but not limited to: an update on the thimerosal class action lawsuits; an update on the CDC influenza vaccine recommendation; a presentation on the average cost of a health insurance policy; and updates from the Division of Vaccine Injury Compensation, the Department of Justice, and the National Vaccine Program Office.

Persons interested in providing an oral presentation should submit a written request, along with a copy of their presentation to: Ms. Cheryl Lee, Principal Staff Liaison, Division of Vaccine Injury Compensation, Office of Special Programs, Health Resources and Services Administration, Room 8A-46, 5600 Fishers Lane, Rockville, MD 20857 or by e-mail at clee@hrsa.gov. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time.

Persons who do not file an advance request for a presentation, but desire to make an oral statement, may announce it at the time of the comment period on the audio conference call. These persons will be allocated time as time permits.

Anyone requiring information regarding the ACCV should contact Ms. Cheryl Lee, Principal Staff Liaison, Division of Vaccine Injury Compensation, Office of Special Programs, Health Resources and Services Administration, Room 8A-46, 5600 Fishers Lane, Rockville, Maryland 20857, telephone (301) 443-2124 or e-mail: clee@hrsa.gov.

Agenda items are subject to change as priorities dictate.

Dated: July 31, 2002.
Jane M. Harrison,
Director, Division of Policy Review and Coordination.

[FR Doc. 02-19870 Filed 8-6-02; 8:45 am]

BILLING CODE 4165-15-P